DEPARTMENT OF HOMELAND SECURITY

Coast Guard

33 CFR Part 165

[CGD01-03-069]

RIN 1625-AA00

Safety Zone: Tribute to the Troops, 4th of July Fireworks, Salem, MA

AGENCY: Coast Guard, DHS.

ACTION: Temporary final rule.

SUMMARY: The Coast Guard is establishing a temporary safety zone for the Tribute to the Troops/Fourth of July Fireworks on July 4, 2003, in Salem Harbor, Salem, Massachusetts, temporarily closing all waters around the center of Derby Wharf in Salem Harbor within a 400-yard radius of the fireworks launch. The safety zone is necessary to protect the life and property of the maritime public from the hazards posed by a fireworks display. Entry into or movement within this portion of Salem Harbor during the enforcement period is prohibited unless authorized by the Captain of the Port Boston, Massachusetts.

DATES: This rule is effective from 8 p.m. until 10 p.m. on July 4, 2003.

ADDRESSES: Documents as indicated in this preamble are available for inspection or copying at Marine Safety Office Boston, 455 Commercial Street, Boston, MA between the hours of 8 a.m. and 3 p.m., Monday through Friday, except Federal holidays.

FOR FURTHER INFORMATION CONTACT: Chief Petty Officer Daniel Dugery, Marine Safety Office Boston, Waterways Safety and Response Division, at (617) 223-3000.

SUPPLEMENTARY INFORMATION:

Regulatory History

Pursuant to 5 U.S.C. 553, a notice of proposed rulemaking (NPRM) was not published for this regulation. Good cause exists for not publishing a NPRM and for making this regulation effective in less than 30 days after Federal Register publication. The temporary safety zone is of very short duration and should have minimal impact on navigation. Accordingly, publishing an NPRM and delaying its effective date would be unnecessary and contrary to public interest since immediate action is needed to prevent traffic from transiting a portion of Salem Harbor, Massachusetts during the fireworks event and to provide for the safety of life on navigable waters. Additionally, the zone should have a negligible impact on vessel transits due to the fact that vessels can still transit in the majority of Salem Harbor during the event.

Background and Purpose

The City of Salem is holding a fireworks display to honor the nations military troops on July 4, 2003. This regulation establishes a safety zone in Salem Harbor around the center of Derby Wharf within a 400-yard radius of the fireworks launch site located at 42°31′04.5″ N, 70°53′05″ W. The safety zone will be enforced from 8 p.m. until 10 p.m. on July 4, 2003.

This safety zone is necessary to protect the life and property of the maritime public from the dangers posed by this event. It will protect the public by prohibiting entry into or movement within this portion of Salem Harbor. No vessel may enter the temporary safety zone without permission of the Captain of the Port Boston, Massachusetts.

Discussion of Rule

This action is intended to restrict vessel traffic in a portion of Salem Harbor in the vicinity of Derby Wharf to provide for the protection of life and property of the maritime public. The safety zone will be enforced from 8 p.m. until 10 p.m. on July 4, 2003. Marine traffic may transit safely outside of the safety zone in the majority of Salem Harbor during the event.

Because of its limited time duration and because the temporary safety zone leaves the majority of Salem Harbor open for navigation, the Captain of the Port anticipates minimal negative impact on vessel traffic due to this event. Public notifications will be made prior to the effective period via Local Notice to Mariners and marine information broadcasts.

Regulatory Evaluation

This rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Homeland Security (DHS)(44 FR 11040, February 26, 1979). The Coast Guard expects the economic impact of this rule to be minimal enough that a full Regulatory Evaluation under the regulatory policies and procedures of DHS is unnecessary. Although this rule will prevent traffic from transiting a portion of Salem Harbor during the effective periods, the effects of this rule will not be significant for several reasons: Vessels will only be excluded from the area of the temporary safety zone for 2 hours, vessels will be able to operate in the majority of Salem Harbor during this time, and advance notifications will be made to the local maritime community via marine information broadcasts and Local Notice to Mariners.

Small Entities

Under the Regulatory Flexibility Act (5 U.S.C. 601-612), the Coast Guard considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. This rule would affect the following entities, some of which may be small entities: The owners or operators of vessels intending to transit or anchor in the vicinity of Derby Wharf in Salem Harbor on July 4, 2003. This safety zone will not have a significant economic impact on a substantial number of small entities for the reasons described under the Regulatory Evaluation section.

If you think that your business, organization, or governmental jurisdiction qualifies as a small entity and that this rule would have a significant economic impact on it, please submit a comment (see ADDRESSES) explaining why you think it qualifies and how and to what degree this rule would economically affect it.

Collection of Information

This rule would call for no new collection of information under the Paperwork Reduction Act of 1995 (44 U.S.C. 3501-3520).

Federalism

The Coast Guard analyzed this rule under Executive Order 13132, Federalism, and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal government having first provided the funds to pay those costs. This rule would not impose an unfunded mandate.

Taking of Private Property

This rule would not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard analyzed this rule under Executive Order 13045, Protection of Children from Environmental Health Risks and Security Risks. This rule is not an economically significant rule and does not pose an environmental risk to health or risk to security that may disproportionately affect children.

Environment

The Coast Guard considered the environmental impact of this rule and concluded that, under figure 2-1, (34)(g), of Commandant Instruction M16475.lD, this rule is categorically excluded from further environmental documentation. A “Categorical Exclusion Determination” is available in the docket where indicated under ADDRESSES.

List of Subjects in 33 CFR Part 165

Harbors, Marine security, Navigation (water), Reporting and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 604-1, 604-6, 160.5; Department of Homeland Security Delegation No. 0170.

2. From 8 p.m. through 10 p.m. on July 4, 2003, add § 165.T01-069 to read as follows:

§ 165.T01-069 Safety Zone: Tribute to the Troops, 4th of July Fireworks, Salem, Massachusetts.

(a) Location. The following area is a safety zone: All waters of Salem Harbor in a 400-yard radius of the fireworks launch site located on Derby Wharf located at position 42°31′04.5″ N, 70°53′05″ W.

(b) Enforcement period. This section will be enforced from 8 p.m. until 10 p.m. on July 4, 2003.

(c) Regulations. (1) In accordance with the general regulations in § 165.23 of this part, entry into or movement within this zone will be prohibited unless authorized by the Captain of the Port Boston.

(2) All vessel operators shall comply with the instructions of the COTP or the designated on-scene Coast Guard patrol personnel. On-scene Coast Guard patrol personnel include commissioned, warrant, and petty officers of the Coast Guard on board Coast Guard, Coast Guard Auxiliary, local, state, and federal law enforcement vessels.

Dated: June 18, 2003.
Brian M. Salerno,
Captain, Coast Guard, Captain of the Port, Boston, Massachusetts.

[FR Doc. 03-16966 Filed 7-3-03; 8:45 am]

BILLING CODE 4910-15-U